DEPARTMENT OF HEALTH AND HUMAN SERVICES

Centers for Disease Control and Prevention

[60Day-10-0783]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of Safe Dates Project—(OMB No. 0920-0783 exp. 6/30/2011)—Revision—National Center for Injury Prevention and Control (NCIPC), Centers for Disease Control and Prevention (CDC).

Background and Brief Description

The Centers for Disease Control (CDC) requests a revision of this Information Collection Request for the Evaluation of the Safe Dates Project. Safe Dates is a research-based adolescent dating violence prevention program. The Safe Dates program includes a nine-session dating abuse curriculum, a play about dating abuse, and a poster contest.

The current information collection request is approved to conduct focus groups and interviews about the Safe Dates adolescent dating violence prevention program. Previously approved were the effectiveness, implementation, and cost surveys with students, school principals, school prevention coordinators, and teachers at a mix of schools. CDC would like to add focus groups with students and interviews with teachers in the urban schools. Data collection staff will use new interview guides designed for this purpose. This revision is requested because CDC has learned additional information about violence and risk factors for adolescents in urban, high-risk communities since the original OMB clearance package was submitted. Recent research has shown that adolescents who live in urban, disadvantaged communities report significantly higher prevalence of some risky behaviors, including violence, than nationally representative U.S. adolescents (Swahn & Bossarte, 2009). Students and teachers in urban schools participating in the effectiveness, cost, and implementation evaluation are an important source of information about possible adaptations to the Safe Dates program that may be needed for urban, high-risk adolescents. Thus, CDC would like to conduct qualitative research with students and teachers in urban schools.

This program has been shown to be effective in one rural North Carolina school district, but appropriateness of the program with urban, high-risk adolescents is unknown. An assessment of whether the Safe Dates adolescent dating violence prevention program needs modification/adaptation for urban, high-risk adolescents is required. The data collection will require participation from teachers at eight schools who delivered the Safe Dates program and students at one school who received the program. Qualitative data will be collected through student focus groups and teacher interviews. Students will complete a participant profile form to capture basic demographic information.

Approximately 1,318 students will participate in the Effectiveness Follow-Up Survey data collection, with 20 teachers and 40 students to participate in interviews and focus groups, respectively. Informed written consent from parents for each student's participation and informed written assent from tenth graders for their own participation will be obtained. Twenty teachers will participate in interviews. Students and teachers will be asked about their experiences with the Safe Dates program and ideas they may have about adapting the program for urban schools.

Data collection will occur in July 2010. Total response burden for this project is summarized in the following table. There is no cost to respondents other than their time.

Estimated Annualized Burden Hours
Type of respondent | Form name | Number of respondents | Number of responses per respondent | Average burden per response (in hours) | Total response burden (hours)
Student | Effectiveness follow-up survey | 1,318 | 1 | 35/60 | 769
| Focus group guide and demographic form | 40 | 1 | 1.5 | 60
Teacher | Interview guide | 20 | 1 | 1 | 20
| Total | 1,378 |  |  | 849

Dated: April 30, 2010.
Maryam I. Daneshvar,
Acting Reports Clearance Office, Centers for Disease Control and Prevention.

[FR Doc. 2010-10711 Filed 5-5-10; 8:45 am]

BILLING CODE 4163-18-P